DEPARTMENT OF AGRICULTURE

Forest Service

Information Collection; Request for Comments; National Survey on Recreation and the Environment

AGENCY: Forest Service, USDA.

ACTION: Notice.

SUMMARY: In accordance with the Paperwork Reduction Act of 1995, the Forest Service announces its intention to request an extension of a currently approved, multi-agency-sponsored information collection. This collection is necessary to ensure that the Forest Service and other land managing agencies meet the recreational needs of the public, understand the public's attitudes and preferences for management of public lands and the environment, and meet Congressionally mandated reporting requirements for the Renewable Resources Planning Act and the Government Performance and Results Act. Information will be collected from adults in the United States.

DATES: Comments must be received in writing on or before July 3, 2000.

ADDRESSES: All comments should be addressed to H. Ken Cordell, Southern Research Station, Forest Service, USDA, 320 Green Street, Athens, GA 30602-2044.

Comments also may be submitted via facsimile to (706) 559-4266 or by e-mail to kcordell@fs.fed.us.

The public may inspect comments received at the offices of the Southern Research Station, Research Work Unit SRS-4901, Forest Service, USDA, 320 Green Street, Athens, Georgia.

FOR FURTHER INFORMATION CONTACT: H. Ken Cordell, Southern Research Station, at (706) 559-4263.

SUPPLEMENTARY INFORMATION:

Background

The Forest and Rangeland Renewable Resources Planning Act of 1974 (RPA), as amended, directs the Secretary of Agriculture to periodically assess the status of National Forests and other forests and rangeland resources. Similar legislative assessment mandates form the basis for each of the other Federal agencies that sponsor the National Survey on Recreation and the Environment. These agencies include the National Oceanic and Atmospheric Administration, the Economic Research Service, the Environmental Protection Agency, the National Park Service, and the Bureau of Land Management. The RPA Assessment Update must be completed by 2002.

Each Federal agency needs to keep abreast of public outdoor recreational trends and preferences. The survey assesses the demands the public places on Federal and other managed forest, rangeland and wilderness resources for recreational purposes and the perceptions the public has of the way agencies manage for meeting these demands. The collected information enables the agencies to be responsive to the trends and preferences of the public while achieving the agencies' missions through effective policy, planning, and management of Federal lands and other forests and wilderness resources.

The National Survey on Recreation and the Environment will be used to collect the data for the assessment update.

The first National Recreation Survey (NRS) was conducted in 1960 by the Outdoor Recreation Resources Review Commission and has assumed the role of being the United States' baseline survey for outdoor recreation and related public land interests. The NRS has served as the official source of recreation data for the population in the United States.

The Forest Service assumed the principle investigative role for the Survey in 1986 and, in 1994, conducted the sixth in this continuing national series. As the lead agency, Forest Service personnel led the conceptualization, design, and execution of the 1994-95 National Survey on Recreation and the Environment. The Forest Service is coordinating NSRE 2000, which began in 1999. It is the seventh in this series of Federally-sponsored recreational surveys.

The NRS survey series has served not only Federal land managing agencies, but also educational institutions, industry, others in the private sector, State agencies, and other levels of government.

Description of Information Collection

The following describes the information collection to be extended:

Title: National Survey on Recreation and the Environment 2000.

OMB Number: 0596-0127.

Expiration Date of Approval: May 31, 2000.

Type of Request: Extension of a previously approved information collection.

Abstract: The collected information will be used to measure the recreational demands the public makes on Federally managed forest and wilderness resources and other public lands at all levels of government. The Forest Service will use the collected information in developing the 2000 and 2003 Renewable Resources Planning Act Assessments and the 2000 and 2003 Government Performance and Results Act Strategic Plans.

To enable analysis of trends, many of the interviewing protocols used in earlier surveys have been replicated. Interviews are being conducted by telephone with telephone numbers selected randomly. Persons who answer the phone are interviewed by University of Tennessee trained interview personnel. Bilingual interviewers are available to overcome language barriers.

Respondents are all age, ethnic, regional, gender, and household strata making up the United States' population. Data is collected from a random sample of adults residing in the United States and the District of Columbia. Sampling is by means of Random Digit Dialing (RDD), resulting in natural stratification of the sample by state, county, and area code. RDD samples provide an equal probability of reaching all households in the nation with telephone access (i.e., a unique telephone number that rings in that household only), whether or not that phone number is listed. University of Tennessee interviewers collect the data under an agreement with the Southern Research Station of the Forest Service.

Questions address the public's perception of recreational site accessibility for disabled persons; the public's perception of how Federal forests, forests on other public lands, and wilderness resources are managed; the public's perception of how well the Federal government delivers the preferred recreational services; and the demographics of the respondents.

Data gathered in this information collection is not available from other sources.

Estimate of Annual Burden: 18 minutes.

Type of Respondents: Consenting adults with access to a telephone.

Estimated Annual Number of Respondents: 20,000.

Estimated Annual Number of Responses per Respondent: 1.

Estimated Total Annual Burden on Respondents: 6,000 hours.

Comment is Invited

The agency invites comments on the following: (a) Whether the proposed collection will meet the stated purposes and is necessary to the performance of the agency, including whether the information will have practical or scientific utility; (b) the accuracy of the agency's estimate of the public burden and validity of the methods and assumptions used; (c) ways that might improve the quality, utility, and clarity of information to be collected; and (d) ways to minimize the burden on respondents, including the use of automated, electronic, mechanical, or other technological collection techniques or other forms of information technology.

Use of Comments

All comments received in response to this notice, including names and addresses when provided, will become a matter of public record. Comments will be summarized and included in the request for Office of Management and Budget approval.

Dated: April 25, 2000.
Randle D. Phillips,
Deputy Chief, Programs and Legislation.

[FR Doc. 00-10837 Filed 5-1-00; 8:45 am]

BILLING CODE 3410-11-P